COMMITTEE FOR THE IMPLEMENTATION OF TEXTILE AGREEMENTS

Determination Under the Textile and Apparel Commercial Availability Provision of the United States-Colombia Trade Promotion Agreement (“U.S.-Colombia TPA”)

AGENCY: The Committee for the Implementation of Textile Agreements.

ACTION: Determination to add a product in unrestricted quantities to Annex 3-B of the U.S.-Colombia TPA.

DATES: Effective Date: November 28, 2016

SUMMARY: The Committee for the Implementation of Textile Agreements (“CITA”) has determined that certain 100% rayon twill challis fabric, as specified below, is not available in commercial quantities in a timely manner in the territory of either the United States or Colombia. The product will be added to the list in Annex 3-B of the U.S.-Colombia TPA in unrestricted quantities.

FOR FURTHER INFORMATION CONTACT: Laurie Mease, Office of Textiles and Apparel, U.S. Department of Commerce, (202) 482-2043.

FOR FURTHER INFORMATION ON-LINE: http://web.ita.doc.gov/tacgi/PeruTPAReqTrack.nsf/ColombiaPetitionsApproved under “Approved Requests,” Reference number: 7.2016.10.17.Fabric.JustFabulous,Inc.

SUPPLEMENTARY INFORMATION:

Authority: The U.S.-Colombia TPA; Section 203(o)(4) of the United States-Colombia Trade Promotion Agreement Implementation Act (“U.S.-Colombia TPA Implementation Act”), Public Law 112-42 (October 21, 2011); the Statement of Administrative Action, accompanying the U.S.-Colombia TPA Implementation Act; and Presidential Proclamation No. 8818, 77 FR 29519 (May 18, 2012).

Background

The U.S.-Colombia TPA provides a list in Annex 3-B for fabrics, yarns, and fibers that the Parties to the U.S.-Colombia TPA have determined are not available in commercial quantities in a timely manner in the territory of any Party. The U.S.-Colombia TPA and the U.S.-Colombia TPA Implementation Act provide that this list may be modified when the President of the United States determines that a fabric, yarn, or fiber is not available in commercial quantities in a timely manner in the territory of any Party or if no interested entity objects to the request. See Article 3.3.5 and Annex 3-B of the U.S.-Colombia TPA; see also section 203(o)(4) of the U.S.- Colombia TPA Implementation Act.

The U.S.-Colombia TPA Implementation Act requires the President to establish procedures governing the submission of a request and providing opportunity for interested entities to submit comments and supporting evidence before a commercial availability determination is made. In Presidential Proclamation 8818, the President delegated to CITA the authority under section 203(o)(4) of the U.S.-Colombia TPA Implementation Act for modifying the Annex 3-B list. Pursuant to this authority, on November 6, 2012, CITA published interim procedures it would follow in considering requests to modify the Annex 3-B list of products determined to be not commercially available in the territory of either the United States or Colombia (Interim Procedures for Considering Requests Under the Commercial Availability Provision of the United States-Colombia Trade Promotion Agreement, 77 FR 66588) (“CITA's procedures”). On October 17, 2016, the Chairman of CITA received a request for a Commercial Availability determination (“Request”) from Just Fabulous, Inc. for certain 100% rayon twill challis fabric, as specified below. On October 18, 2016, in accordance with CITA's procedures, CITA notified interested parties of the Request, which was posted on the dedicated Web site for U.S.-Colombia TPA Commercial Availability proceedings. In its notification, CITA advised that any Response with an Offer to Supply (“Response”) must be submitted by October 31, 2016, and any Rebuttal Comments to a Response must be submitted by November 4, 2016, in accordance with sections 6 and 7 of CITA's procedures. No interested entity submitted a Response to the Request advising CITA of its objection to the Request and its ability to supply the subject product.

In accordance with section 203(o)(4) of the U.S.-Colombia TPA Implementation Act, and section 8(c)(2) of CITA's procedures, as no interested entity submitted a Response objecting to the Request and providing an offer to supply the subject product, CITA has determined to add the specified fabric to the list in Annex 3-B of the U.S.-Colombia TPA.

The subject product has been added to the list in Annex 3-B of the U.S.-Colombia TPA in unrestricted quantities. A revised list has been posted on the dedicated Web site for U.S.-Colombia TPA Commercial Availability proceedings.

Specifications: Certain 100% Rayon Twill Challis Fabric

HTSUS: 5516.12.0020; 5516.13.0000; 5516.14.0025; 5516.14.0030

Fabric Type: Twill Challis

Fiber Content: 100% Rayon

Yarn Size:

Weft 27-33 denier x Warp 27-33 denier/

97.2-118.8 warp ends x 61.2-74.8 weft filling yarns per square inch (English)

627-767 warp ends x 394-483 weft filling yarns per square centimeter (metric)

* range represents a ± 10% tolerance.

Weave Type: Twill

Weight: 152 to 168 grams per square meter—this is the equivalent of ± 5% tolerance of 160 grams per square meter used in due diligence

Width:

55 in to 56 in (English)

139.7 to 142.24 centimeters (metric)

Coloration Process:

Various (including bleaching, piece dyed, yarn dyed, and/or printed)

Finishing Process: Various

Ranges: Ranges in these specifications reflect a tolerance from the target figures of up to five % (equal to range of 152-168 grams per square meter) for fabric weight. Yarn size is a tolerance of ten % (equal to range of 627-767 warp ends x 394-483 weft filling yarns per square centimeter).

Felicia Pullam,
Chairman, Committee for the Implementation of Textile Agreements.

[FR Doc. 2016-28596 Filed 11-25-16; 8:45 am]

BILLING CODE 3510-DR-P